FEDERAL ELECTION COMMISSION

Sunshine Act Meeting

TIME AND DATE: Wednesday, March 14, 2018 at 2:00 p.m.

PLACE: 999 E Street NW, Washington, DC (Ninth Floor).

STATUS: This meeting will be open to the public.

CHANGES IN THE MEETING: This meeting has been moved from Tuesday, March 13 at 10:00 a.m. to Wednesday, March 14 at 2:00 p.m.

MATTERS TO BE CONSIDERED: REG 2011-02: Draft Notice of Proposed Rulemaking on internet Communication Disclaimers and Definition of “Public Communication.”

Management and Administrative Matters.

CONTACT PERSON FOR MORE INFORMATION: Judith Ingram, Press Officer, Telephone: (202) 694-1220.

Individuals who plan to attend and require special assistance, such as sign language interpretation or other reasonable accommodations, should contact Dayna C. Brown, Secretary and Clerk, at (202) 694-1040, at least 72 hours prior to the meeting date.

Dayna C. Brown,
Secretary and Clerk of the Commission.

[FR Doc. 2018-05068 Filed 3-8-18; 4:15 pm]

BILLING CODE 6715-01-P